COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to deletes service(s) that were previously furnished by nonprofit agencies employing persons who are blind or have other severe disabilities.

DATES: Comments must be received on or before: November 12, 2023.

ADDRESSES: Committee for Purchase From People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following service(s) are proposed for deletion from the Procurement List:

Service(s)

Service Type: Grounds Maintenance

Mandatory for: NOAA, National Weather Service Forecast Office, Charleston, WV; 400 Parkway Road: Charleston, WV

Mandatory Source of Supply: Goodwill Industries of Kanawha Valley, Charleston, WV

Contracting Activity: NATIONAL OCEANIC AND ATMOSPHERIC ADMINISTRATION, DEPT OF COMMERCE NOAA

Service Type: Laundry Service

Mandatory for: US Air Force, Youngstown Municipal Airport, 910th Airlift Wing, Youngstown Air Reserve Station, Vienna, OH, 3976 King Graves Road, Vienna, OH

Mandatory Source of Supply: Hancock County Sheltered Workshop, Inc., Weirton, WV

Contracting Activity: DEPT OF THE AIR FORCE, FA6656 910 AW LGC YNGSTN WRN ARPT

Michael R. Jurkowski,
Acting Director, Business Operations.

[FR Doc. 2023-22620 Filed 10-12-23; 8:45 am]

BILLING CODE 6353-01-P